DEPARTMENT OF ENERGY

Federal Energy Regulatory Commission

[Project Nos. 2246-063, 2246-058]

Notice of Study Plan Meeting; Yuba County Water Agency

a. Project Name and Number: Yuba River Development Project No. 2246.

b. Date and Time of Meeting: August 27, 2015; 10 a.m. Pacific Time.

c. Place: Teleconference; Phone Number: (530) 741-5050; Passcode: 22466422.

d. FERC Contact: Alan Mitchnick, alan.mitchnick@ferc.gov or (202) 502-6074.

e. Purpose of Meeting: Yuba County Water Agency (YCWA) is in the process of implementing Study 7.11a, Radio Telemetry Study of Spring- and Fall-run Chinook Salmon Migratory Behavior Downstream of Narrows 2 Powerhouse. Pursuant to the approved study plan, YCWA wishes to discuss the status of the study's implementation.

f. All local, state, and federal agencies, Indian tribes, and other interested parties are invited to participate.

Dated: August 12, 2015.
Kimberly D. Bose,
Secretary.

[FR Doc. 2015-20426 Filed 8-18-15; 8:45 am]

BILLING CODE 6717-01-P